FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 2, 2012.

A. Federal Reserve Bank of Minneapolis (Jacqueline G. King, Community Affairs Officer) 90 Hennepin Avenue, Minneapolis, Minnesota 55480-0291:

1. Quoin Financial Bank 401(K) Profit Sharing Plan, Miller, South Dakota (First Bank & Trust, Brookings, South Dakota, trustee; Tom, Jerry, and Garry Peterka with power to vote), and Goodman Group Management Deferred Compensation Rabbi Trust Plan, F/B/O Dan Peterka, Phoenix, Arizona (Wilmington Trust Retirement and Institutional Services Company, Phoenix, Arizona, trustee; Dan Peterka with power to vote); to join the Peterka Family Group to acquire voting shares of M & H Financial Services Inc., and thereby indirectly acquire voting shares of Quoin Financial Bank, both in Miller, South Dakota.

B. Federal Reserve Bank of Kansas City (Dennis Denney, Assistant Vice President) 1 Memorial Drive, Kansas City, Missouri 64198-0001:

1. Mikael Lowell Males, individually and as co-trustee of the Males Family Trust, the Males Family Trust, the Males 2010 Trust, The James L. Males Trust, and the William L. Males Living Trust, all of Edmond, Oklahoma, and Toni Darlene Swartwood, Elk City, Oklahoma, as co-trustee of the Males Family Trust, all as members of the Males Family group; to acquire voting shares of Cheyenne Banking Corporation, and thereby indirectly acquire voting shares of Security State Bank, both in Cheyenne, Oklahoma.

Board of Governors of the Federal Reserve System, October 15, 2012.
Margaret McCloskey Shanks,
Associate Secretary of the Board.

[FR Doc. 2012-25657 Filed 10-17-12; 8:45 am]

BILLING CODE 6210-01-P